OFFICE OF PERSONNEL MANAGEMENT

5 CFR Part 532

RIN 3206-AJ00

Prevailing Rate Systems; Abolishment of the Franklin, PA, Nonappropriated Fund Wage Area

AGENCY: Office of Personnel Management.

ACTION: Final rule.

SUMMARY: The Office of Personnel Management is issuing a final rule that will abolish the Franklin, Pennsylvania, nonappropriated fund (NAF) Federal Wage System (FWS) wage area and redefine Franklin and Blair Counties, PA, to the Cumberland, PA, NAF FWS wage area. This change is necessary because the Franklin wage area's host installation, Letterkenny Army Depot, has downsized its operation. This leaves the Department of Defense without an installation in the survey area capable of hosting annual local wage surveys in the wage area.

DATES: Effective date: This regulation is effective on July 11, 2000.

FOR FURTHER INFORMATION CONTACT: Jennifer Hopkins by phone at (202) 606-2848, by FAX at (202) 606-0824, or by email at jdhopkin@opm.gov.

SUPPLEMENTARY INFORMATION: On February 29, 2000, the Office of Personnel Management (OPM) published an interim rule (65 FR 10673) to abolish the Franklin, Pennsylvania, nonappropriated fund (NAF) Federal Wage System (FWS) wage area and redefine Franklin and Blair Counties, PA. The Franklin wage area consists of one survey county, Franklin County, and one area of application county, Blair County, PA. Under section 5343 of title 5, United States Code, OPM is responsible for defining FWS wage areas. For this purpose, we follow the regulatory criteria in section 532.219(b) of title 5, Code of Federal Regulations.

OPM may establish NAF wage areas when a minimum of 26 NAF wage employees have duty stations in the survey area, a local activity has the capability to host annual local wage surveys, and a minimum of 1,800 private enterprise employees are within the survey area in establishments within survey specifications. Although Franklin County, PA, has approximately 26 NAF FWS employees, the wage area's host activity, Letterkenny Army Depot, has downsized its operation. This leaves the Department of Defense without an activity in the survey area with the capability to conduct annual local wage surveys in the wage area. Therefore, Blair and Franklin Counties, PA, will become part of the Cumberland, PA, NAF wage area. The Cumberland wage area will consist of one survey county, Cumberland County, PA, and two area of application counties, Blair and Franklin Counties, PA.

The Federal Prevailing Rate Advisory Committee, the national labor-management committee responsible for advising OPM on matters concerning the pay of FWS employees, has reviewed and concurred by consensus with this change. FWS employees in Franklin and Blair Counties, PA, transferred to the Cumberland, PA, NAF wage area schedule on the first day of the first applicable pay period beginning on or after March 16, 2000. The interim rule had a 30-day public comment period, during which OPM did not receive any comments.

Regulatory Flexibility Act

I certify that this regulation will not have a significant economic impact on a substantial number of small entities because it will affect only Federal agencies and employees.

List of Subjects in 5 CFR Part 532

Administrative practice and procedure, Freedom of information, Government employees, Reporting and recordkeeping requirements, Wages.

Accordingly, under the authority of 5 U.S.C. 5343, the interim rule (65 FR 10673) amending 5 CFR part 532 published on February 29, 2000, is adopted as final with no changes.

U.S. Office of Personnel Management.
Janice R. Lachance,
Director.

[FR Doc. 00-17459 Filed 7-10-00; 8:45 am]

BILLING CODE 6325-01-P